COMMISSION ON CIVIL RIGHTS

Sunshine Act Meeting Notice

AGENCY: United States Commission on Civil Rights.

ACTION: Notice of Commission public business meeting.

DATES: Friday, December 13, 2024, 10:00 a.m. EST.

ADDRESSES: Meeting to take place virtually and is open to the public via livestream on the Commission's YouTube page: https://www.youtube.com/user/USCCR/videos.

FOR FURTHER INFORMATION CONTACT: Joe Kim: 202-376-8371; publicaffairs@usccr.gov.

SUPPLEMENTARY INFORMATION: In accordance with the Government in Sunshine Act (5 U.S.C. 552b), the Commission on Civil Rights is holding a meeting to discuss the Commission's business for the month. This business meeting is open to the public. Computer assisted real-time transcription (CART) will be provided. The web link to access CART (in English) on December 13, 2024, is https://www.streamtext.net/player?event=USCCR. Please note that CART is text-only translation that occurs in real time during the meeting and is not an exact transcript.

I. Approval of Agenda

II. Business Meeting

A. A Discussion and Vote on the planning documents for the 2025 Briefing Report Topic on Language Access, led by Commissioner Magpantay.

B. Management and Operations.

• Staff Director's Report.

III. Adjourn Meeting

Dated: December 5, 2024.
David Mussatt,
USCCR Chief of Regional Programs Unit.

[FR Doc. 2024-29013 Filed 12-5-24; 4:15 pm]

BILLING CODE 6335-01-P